COUNCIL ON ENVIRONMENTAL QUALITY

OFFICE OF SCIENCE AND TECHNOLOGY POLICY

Notice of Availability and Request for Comments

SUMMARY: On May 3, 2000 the Council on Environmental Quality (CEQ) and the Office of Science and Technology Policy (OSTP) were directed to conduct an interagency assessment of Federal environmental regulations pertaining to agricultural biotechnology. CEQ and OSTP announce the availability of the case studies and invite comment.

DATES: Written comments should be submitted on or before May 1, 2001.

ADDRESSES: Direct written comments to Chair, Council on Environmental Quality and Director, Office of Science and Technology Policy; Executive Office of the President, 17th and G Streets, NW., Washington, DC 20500. Attention: CEQ/OSTP Biotechnology Assessment.

FOR FURTHER INFORMATION CONTACT: Requests for copies of the report may be directed to CEQ and OSTP at the above address or may be requested by calling CEQ at (202) 395-5750 or OSTP at (202) 456-6130. The report also appears on CEQ's website at www.whitehouse.gov/ceq and on OSTP's website at www.ostp.gov.

SUPPLEMENTARY INFORMATION:

I. Abstract

On May 3, 2000, the President directed the Council on Environmental Quality (CEQ) and the Office of Science and Technology Policy (OSTP) to “conduct a six month interagency assessment of Federal environmental regulations pertaining to agricultural biotechnology and, if appropriate, make recommendations to improve them”. The assessment was undertaken as part of a larger set of policy measures intended to build consumer confidence and ensure that U.S. regulations keep pace with the latest scientific and product developments.

The President directed this assessment to further long-standing goals of public access to information and maintenance of strong, science-based regulation. The assessment was intended to focus on environmental regulations through the use of a set of case studies to describe in detail how specific products are being regulated or how they may potentially be regulated. The focus on environmental regulations was based on the premise that this aspect of biotechnology regulation is not well understood by the public and is the subject of considerable interest. The analysis was not intended to be comprehensive in scope, but rather to be based on a set of case studies that could illuminate current agency practices, identify strengths and potential areas for improvement.

In the intervening months, the assessment produced a set of working documents that provide rich detail and information on specific case studies for the public and for policymakers. However, due to time limitations, the interagency working group that was assembled to conduct the assessment was not able to conduct the analysis necessary to develop conclusions or recommendations. The selection of these particular case studies in no way indicates specific concerns with previous regulatory findings. In fact, no significant negative environmental impacts have been associated with the use of any previously approved biotechnology product.

II. Request for Comments

In order to further the assessment process, CEQ and OSTP believe it would be beneficial to have public input on federal regulation of environmental aspects of biotechnology informed by the case studies. Specifically, based on the initial review of the case studies, public comment is requested in the following broad areas of overall federal regulation of environmental aspects of biotechnology: (a) Comprehensiveness and rigor of environmental assessment; (b) comprehensiveness and strength of statutory authority; (c) transparency of the environmental assessment and the decisionmaking process; (d) public involvement; (e) interagency coordination; (f) confidential business information.

Public comments are requested by May 1.

Dated: January 19, 2001.
Dinah Bear,
General Counsel, Council on Environmental Quality.
Clifford Gabriel,
Deputy to the Associate Director, Office of Science and Technology Policy.

[FR Doc. 01-2325 Filed 1-25-01; 8:45 am]

BILLING CODE 3125-01-M